DEPARTMENT OF HEALTH AND HUMAN SERVICES

Administration for Children and Families

Notice of Meeting; National Advisory Committee on the Trafficking of Children and Youth in the United States

AGENCY: Office on Trafficking in Persons, Administration for Children and Families, Department of Health and Human Services.

ACTION: Announcement of meeting.

SUMMARY: Notice is hereby given, pursuant to the provisions of the Federal Advisory Committee Act (FACA), that a meeting of the National Advisory Committee on the Trafficking of Children and Youth in the United States (Committee) will be held on January 13, 2025. The purpose of the meeting is for the Committee to discuss its plans and responsibilities over its 24-month extension to advise on the development and implementation of successful interventions with children and youth who have been impacted by labor and sex trafficking, make recommendations for administrative and legislative changes regarding the trafficking of children and youth, and publish information on best practices regarding the labor and sex trafficking of children and youth.

DATES: Please submit any comments regarding best practices and recommendations to address the trafficking of children and youth comments as soon as possible and before January 10, 2025. The meeting will be held on January 13, 2025. Future meetings will be held on a quarterly basis, on or around the approximate dates: April 14, 2025; July 14, 2025; and October 13, 2025.

ADDRESSES: The meeting will be held virtually. Please register for this event online: https://www.acf.hhs.gov/otip/partnerships/nac-trafficking-children-youth. Please submit comments to endtrafficking@acf.hhs.gov with the subject “NAC Comments”.

FOR FURTHER INFORMATION CONTACT: Katherine Chon (Designated Federal Officer) at EndTrafficking@acf.hhs.gov or (202) 205-5778, or 330 C Street SW, Washington, DC 20201. Additional information is available at https://www.acf.hhs.gov/otip/partnerships/nac-trafficking-children-youth.

SUPPLEMENTARY INFORMATION: The formation and operation on behalf of the Committee are governed by the provisions of Public Law 92-463, as amended (5 U.S.C. App. 2), which sets forth standards for the formation and use of Federal advisory committees.

Purpose of the Committee: The purpose of the Committee is to advise the Secretary and the Attorney General on practical and general policies concerning improvements to the Nation's response to the labor and sex trafficking of children and youth in the United States. The discretionary advisory Committee will build on the work of the previous National Advisory Committee on the Sex Trafficking of Children and Youth in the United States, which operated from January 18, 2017, to January 18, 2022, authorized pursuant to section 121 of the Preventing Sex Trafficking and Strengthening Families Act (Pub. L. 113-183) and governed by the provisions of Public Law 92-463, as amended 5 U.S.C. chapter 10.

Tentative Agenda: The agenda can be found at https://www.acf.hhs.gov/otip/partnerships/nac-trafficking-children-youth. To submit written statements, email endtrafficking@acf.hhs.gov by January 10, 2025. Please include your name, organization, and phone number. More details on these options are below.

Public Accessibility to the Meeting: Pursuant to 5 U.S.C. 552b and 41 CFR 102-3.140 through 102-3.165, and subject to the availability of space, this meeting is open to the public virtually.

Written Statements: Pursuant to 41 CFR 102-3.105(j) and 102-3.140 and section 10(a)(3) of the Federal Advisory Committee Act, the public may submit written statements in response to the stated agenda of the meeting or to the Committee's mission in general. Organizations with recommendations on strategies to engage states and stakeholders are encouraged to submit their comments or resources (hyperlinks preferred). Written comments or statements received after January 10, 2025, may not be provided to the Committee until its next meeting.

Verbal Statements: Pursuant to 41 CFR 102-3.140, the Committee is not obligated to allow a member of the public to speak or otherwise address the Committee during the meeting. Members of the public are invited to provide verbal statements during the Committee meeting only at the time and manner described in the agenda. The request to speak should include a brief statement of the subject matter to be addressed and should be relevant to the stated agenda of the meeting or the Committee's mission in general.

Minutes: The minutes of this meeting will be available for public review and copying within 90 days at https://www.acf.hhs.gov/otip/partnerships/nac-trafficking-children-youth.

Rudette Pinkney,
Acting Deputy Director, Office of the Executive Secretariat.

[FR Doc. 2024-31416 Filed 12-31-24; 8:45 am]

BILLING CODE 4184-40-P